DEPARTMENT OF VETERANS AFFAIRS

Summary of a Precedent Opinion of the General Counsel

AGENCY: Department of Veterans Affairs.

ACTION: Notice.

SUMMARY: The Department of Veterans Affairs (VA) is publishing a summary of a legal interpretation issued by the Department's General Counsel involving veterans' benefits under laws administered by VA. This interpretation is considered precedential by VA and will be followed by VA officials and employees in future claim matters involving the same legal issues. The summary is published to provide the public, and, in particular, veterans' benefits claimants and their representatives, with notice of VA's interpretation regarding the legal matter at issue.

FOR FURTHER INFORMATION CONTACT: Susan P. Sokoll, Law Librarian, Department of Veterans Affairs, 810 Vermont Avenue, NW., (026H), Washington, DC 20420, (202) 461-7623.

SUPPLEMENTARY INFORMATION: VA regulations at 38 CFR 2.6(e)(8) and 14.507 authorize the Department's General Counsel to issue written legal opinions having precedential effect in adjudications and appeals involving veterans' benefits under laws administered by VA. The interpretations of the General Counsel on legal matters, contained in such opinions, are conclusive as to all VA officials and employees not only in the matter at issue but also in future adjudications and appeals involving the same legal issues, in the absence of a change in controlling statute or regulation or a superseding written legal opinion of the General Counsel.

VA publishes summaries of such opinions in order to provide the public with notice of those interpretations of the General Counsel that must be followed in future benefit matters and to assist veterans' benefits claimants and their representatives in the prosecution of benefit claims. The full text of such opinions, with personal identifiers deleted, may be obtained by contacting the VA official named above or by accessing the opinions on the internet at http://www1.va.gov/OGC/.

VAOPGCPREC 1-2008

Questions Presented

May VA reimburse a veteran who submitted an initial application for Specially Adapted Housing assistance but who, before filing a supplemental application, paid in full the costs of acquiring the adapted home?

Held

The Secretary is authorized to provide Specially Adapted Housing assistance to a veteran if: (i) The veteran submitted a VA Form 26-4555 prior to paying in full the costs of the adapted home; (ii) the veteran was not seeking reimbursement for adaptations made prior to the date of application or for unspecified future adaptations; (iii) the veteran later submitted VA Form 26-4555c; and (iv) the Secretary determines that the veteran and the veteran's adapted home meet all other statutory and regulatory requirements.

Effective date: June 2, 2008.

Dated: June 17, 2008.
By Direction of the Secretary.
Paul J. Hutter,
General Counsel.

[FR Doc. E8-14209 Filed 6-23-08; 8:45 am]

BILLING CODE 8320-01-P